DEPARTMENT OF VETERANS AFFAIRS

[OMB Control No. 2900-XXXX]

Agency Information Collection Activity Under OMB Review: Edith Nourse Rogers STEM Scholarship Application

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before December 19, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-XXXX” in any correspondence.

FOR FURTHER INFORMATION CONTACT: Danny S. Green, Enterprise Records Service (005R1B), Department of Veterans Affairs, 811 Vermont Avenue NW, Washington, DC 20420, (202) 421-1354 or email Danny.Green2@va.gov. Please refer to “OMB Control No. 2900-XXXX” in any correspondence.

SUPPLEMENTARY INFORMATION:

Authority: Public Law 115-48, section 111; 44 U.S.C. 3501-21.

Title: Edith Nourse Rogers STEM Scholarship Application (VA Form 22-10203).

OMB Control Number: 2900-XXXX.

Type of Review: New collection.

Abstract: VA Form 22-10203 will allow students to apply for the Edith Nourse Rogers STEM Scholarship Program. Under the program, VA shall provide up to 9 months of Post-9/11 GI Bill benefits to certain eligible individuals selected by the Secretary of the Department of Veterans Affairs (VA).

An agency may not conduct or sponsor, and a person is not required to respond to a collection of information unless it displays a currently valid OMB control number. The Federal Register Notice with a 60-day comment period soliciting comments on this collection of information was published at 84 FR 170 on September 3, 2019, pages 46097 and 46098.

Affected Public: Individuals or Households.

Estimated Annual Burden: 36,000 hours.

Estimated Average Burden per Respondent: 5 minutes.

Frequency of Response: One time.

Estimated Number of Respondents: 750.

By direction of the Secretary.
Danny S. Green,
VA Interim Clearance Officer, Office of Quality Performance and Risk, Department of Veterans Affairs.

[FR Doc. 2019-24954 Filed 11-18-19; 8:45 am]

BILLING CODE 8320-01-P